DEPARTMENT OF ENERGY

Federal Energy Regulatory Commission

[Project No. 2587-066]

Northern States Power Company; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 2587-066.

c. Date Filed: December 30, 2022.

d. Applicant: Northern States Power Company (Northern States).

e. Name of Project: Superior Falls Hydroelectric Project (project).

f. Location: On the Montreal River in Gogebic County, Michigan and Iron County, Wisconsin.

g. Filed Pursuant to: Federal Power Act, 16 U.S.C. 791(a)-825(r).

h. Applicant Contact: Donald R. Hartinger, Director—Renewable Operation, 414 Nicollet Mall FL 2, Minneapolis, MN 55401; telephone at (651) 261-7668; email at donald.r.hartinger@xcelenergy.com.

i. FERC Contact: Nicholas Ettema, Project Coordinator, Great Lakes Branch, Division of Hydropower Licensing; telephone at (312) 596-4447; email at nicholas.ettema@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Superior Falls Hydroelectric Project (P-2587-066).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project includes a dam that consists of: (1) a 42-foot-long spillway; (2) a 22-foot-long section with an 18-foot-long Tainter gate; (3) an 18.6-foot-long section with an 11.5-foot-long ogee spillway with a crest elevation of 740.2 feet National Geodetic Vertical Datum of 1929 (NGVD 29), a 5-foot-long sluice gate, and a 4-foot-long sluice gate; (4) a 40.5-foot-long section with two 16-foot-long Tainter gates; and (5) a 70-foot-long non-overflow section with a 23-foot-long intake structure with a 15-foot-long gate and a trashrack with 1-inch clear bar spacing. The dam creates an impoundment with a surface area of 16.3 acres at an elevation of 740.2 feet NGVD 29.

From the impoundment, water flows through the intake structure to a 1,697-foot-long conduit with a surge tank, and then to two 207-foot-long penstocks. From the penstocks, water is conveyed to a 32-foot-long, 62-foot-wide powerhouse that contains two 825-kilowatt (kW) horizontal Francis turbine-generator units, for a total installed capacity of 1,650 kW. Water is discharged from the powerhouse to an approximately 80-foot-long tailrace. The project creates an approximately 1,900-foot-long bypassed reach of the Montreal River.

Project recreation facilities include: (1) a hand-carry boat take-out site and an associated 5-vehicle parking area on the western shoreline of the impoundment, approximately 1,050 feet upstream of the dam; (2) a scenic overlook site on the eastern shoreline of the bypassed reach, approximately 1,400 feet downstream of the dam; (3) a fishing area on the eastern shoreline of the tailrace; and (4) a parking area and access trails for the scenic overlook and fishing area.

Electricity generated at the powerhouse is transmitted to the electric grid via a 200-foot-long, 2.4-kilovolt (kV) overhead transmission line and a 2.4/34.5-kV step-up transformer. The minimum and maximum hydraulic capacities of the powerhouse are 25 and 220 cubic feet per second (cfs), respectively. The average annual energy production of the project from 2017 through 2021 was 11,436.4 megawatt-hours.

The current license requires Northern States to: (1) operate in a run-of-river mode, such that outflow from the project approximates inflow; (2) maintain a minimum impoundment surface elevation of 739.7 feet NGVD 29; (2) limit non-emergency impoundment drawdown rates to a maximum of 1 foot per 24 hours for the first 48 hours and 0.5 foot per 24 hours thereafter, with the rate being evenly spread across the time period; (3) release an aesthetic flow of 8 cfs to the bypassed reach from the Saturday before Memorial Day to October 15, except on weekends and holidays, when an aesthetic flow of 20 cfs is released from 8:00 a.m. to 8:00 p.m. The current license also requires Northern States to implement a plan to monitor flows in the bypassed reach, a recreation plan to operate and maintain the recreation facilities, a wildlife management plan to protect any federally and state listed species, and a plan to avoid or minimize disturbances to the quality of the existing visual resources of the project area.

Northern States proposes to revise the project boundary around the impoundment to follow a contour elevation of 740.2 feet NGVD 29, and include approximately 4 acres of land east of the impoundment. The proposed changes would result in a reduction in the total acreage of the project boundary upstream of the project dam, from 296.4 acres to 22.2 acres. Downstream of the project dam, Northern States proposes to: (1) add 3.9 acres of land and water near the powerhouse; (2) remove 35 acres of land east of State Highway 122; and (4) remove 11.1 acres of land on the western shoreline of the bypassed reach.

Northern States proposes to: (1) continue to operate the projects in run-of-river mode, maintain a minimum impoundment elevation of 739.7 feet NGVD 29, and release minimum aesthetic flows; (2) develop an operation compliance monitoring plan; (3) develop an invasive species management plan that includes biennial surveys for invasive species; (4) protect bald eagles by scheduling any ground-disturbing activities at recreation sites to occur between August 1 and January 15 for any work within 660 feet of any eagle nest; (5) avoid the removal of trees greater than 3 inches in diameter from June 1 through July 31, and follow the U.S. Fish and Wildlife Service's guidance to protect the northern long-eared bat and tricolored bat; (6) continue to maintain project recreation facilities, but relocate the existing hand-carry boat take-out site and parking area on the western shoreline of the impoundment to the eastern shoreline of the impoundment, approximately 300 feet upstream of the dam; (7) install new directional signage for the new boat take-out site and update recreation and safety signage to comply with Part 8 of the Commission's regulations; and (8) develop a historic properties management plan that includes shoreline erosion surveys every 5 years.

m. A copy of the application can be viewed on the Commission's website at http://www.ferc.gov using the “eLibrary” link. Enter the docket number excluding the last three digits in the docket number field to access the document (i.e., P-2587). For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification.

p. Procedural Schedule: The application will be processed according to the following schedule. Revisions to the schedule will be made as appropriate.

Milestone | Target date
Filing of Comments, Recommendations, Terms and Conditions, and Prescriptions | December 2024.
Filing of Reply Comments | January 2025.

q. Final amendments to the application must be filed with the Commission no later than 30 days from the issuance date of this notice.

Dated: October 10, 2024.
Debbie-Anne A. Reese,
Secretary.

[FR Doc. 2024-23941 Filed 10-16-24; 8:45 am]

BILLING CODE 6717-01-P